DEPARTMENT OF JUSTICE

Notice of Lodging of Proposed Consent Decree Under The Clean Air Act

On November 19, 2019, the Department of Justice lodged a proposed Consent Decree with the United States District Court for the District of Puerto Rico in the lawsuit entitled United States of America v. Puerto Rico CVS Pharmacy, LLC, Civil Action No. 3:19-cv-02075.

The Consent Decree resolves the Resource Conservation and Recovery Act violations as alleged in the Complaint, also filed by the United States on November 19, 2019. The violations alleged in the Complaint arose in 2013 and include Puerto Rico CVS Pharmacy's (“CVS”) failure to comply with certain RCRA regulations governing management of hazardous waste at some of its Puerto Rico stores. Specifically, they include, among others, a failure to maintain hazardous waste containers closed, failure to mark the accumulation start date on hazardous waste containers, and a failure to maintain a contingency plan on site.

The Consent Decree requires CVS to conduct a compliance assessment of its Puerto Rico stores, and to conduct training for Puerto Rico store managers. The Consent Decree also requires CVS to pay a $60,000 penalty.

The Department of Justice will receive, for a period of thirty (30) days from the date of this publication, comments relating to the Consent Decree. Comments should be addressed to the Assistant Attorney General for the Environmental and Natural Resources Division, and should refer to United States v. Puerto Rico CVS Pharmacies, LLC, DOJ Ref. # 90-7-1-11211. All comments must be submitted no later than thirty days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $5.25 (25 cents per page reproduction cost) payable to the United States Treasury.

Henry Friedman,
Assistant Chief, Environmental Enforcement Section, Environment & Natural Resources Division.

[FR Doc. 2019-25486 Filed 11-22-19; 8:45 am]

BILLING CODE 4410-15-P